FEDERAL ELECTION COMMISSION

Sunshine Act Meeting Notice

Previously Announced Date and Time: Tuesday, March 25, 2003, 10 a.m. Meeting closed to the public. This meeting was cancelled

Date and Time: Tuesday, April 1, 2003, at 10 a.m.

Place: 999 E Street, NW., Washington, DC.

Status: This meeting will be closed to the public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, April 3, 2003, at 10 a.m.

Place: 999 E Street, NW., Washington, DC (ninth floor).

Status: This meeting will be open to the public.

Items to be Discussed:

Correction and Approval of Minutes.

Future Meeting Dates.

Draft Advisory Opinion 2003-02: The Socialist Workers Party (“SWP”) and the SWP National Campaign Committee by counsel, Michael Krinsky and Jaykumar Menon.

Notice of Proposed Rulemaking on Title 26 and National Convention/Host Committees.

Administrative Matters.

FOR FURTHER INFORMATION CONTACT: Mr. Ron Harris, Press Officer, Telephone: (202) 694-1220.

Mary W. Dove,
Secretary of the Commission.

[FR Doc. 03-7485 Filed 3-25-03; 11:49 am]

BILLING CODE 6715-01-M